DEPARTMENT OF HEALTH AND HUMAN SERVICES

Administration for Children and Families

Proposed Information Collection Activity; Judicial, Court, and Attorney Measures of Performance: Feedback and Implementation (New Collection)

AGENCY: Children's Bureau, Administration for Children and Families, United States Department of Health and Human Services.

ACTION: Request for public comments.

SUMMARY: The Children's Bureau, Administration for Children and Families (ACF), United States Department of Health and Human Services, is proposing to collect data for a new descriptive study, Judicial, Court, and Attorney Measures of Performance (JCAMP): Feedback and Implementation. This expands on earlier work around technical assistance, as approved under Office of Management and Budget #: 0970-0593.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: This study will expand on a collection from field testing sites that informed the development of a suite of measures and tools, which became the JCAMP (OMB #0970-0970-0593 ¹). The data collection proposed here will further those efforts now that that suite of documents has been released. Specifically, this effort will (1) collect information from JCAMP implementation teams to understand their experiences with JCAMP implementation support, and (2) collect information from parents and children with child welfare cases, foster/kinship caregivers, judges, case workers, parent attorneys, children's attorneys, and child welfare agency attorneys to gather information for JCAMP measures selected for use by jurisdictions (jurisdictions will collect only the data elements relevant to them). This will be accomplished using eleven instruments:

¹ https://www.reginfo.gov/public/do/PRAViewICR?ref_nbr=202203-0970-010.

JCAMP Feedback Survey: Members of JCAMP implementation teams will answer questions about their experiences with JCAMP written materials, technical assistance, and the eJCAMP online platform.

Parent Experience Survey: A brief survey that collects data post-hearing about parent experiences in court including, strategies used by judges to engage families, satisfaction with their legal representation, and collects demographic information.

Parent Court Experience Question Bank: This question bank includes options for items to include on a survey of parents with child welfare cases. Sites will select items that align with their chosen JCAMP measures. It is expected that surveys created from this bank will include up to 30 questions.

Parent Focus Group Guide: This focus group guide includes questions for parents with child welfare cases about their experiences with the child welfare court process.

Youth Post-Hearing Short Survey: This brief survey asks youth about their experiences immediately following hearings and collects demographic information (for example to allow assessment of equity aspects of judicial and legal practice and differences among age groups).

Youth Experience Survey: This survey collects information from youth with child welfare cases about their experiences with the child welfare court process and collects demographic information (for example to allow assessment of equity aspects of judicial and legal practice and differences among age groups).

Youth Court Experience Question Bank: This question bank includes options for items to include on a survey of youth with child welfare cases. Sites will select items that align with their chosen JCAMP measures. It is expected that surveys created from this bank will include up to 30 questions.

Youth Focus Group Guide: This focus group guide includes questions for youth with child welfare cases about their experiences with the child welfare court process.

Caregiver Survey: This survey collects information from adults caring for children with child welfare cases about their experiences with the child welfare court process and demographic information.

Stakeholder Survey: This survey collects data regarding judges' and attorneys' experiences in court including, persons present at hearings, judicial engagement strategies used with parents, children, and caregivers, the practices of parent, child, and agency attorneys during hearings, typical timelines to permanency, and case processing activities.

Stakeholder Focus Group Guide: This focus group guide asks judges, parent attorneys, children's attorneys, and child welfare agency attorneys their perceptions of the child welfare court system, including how families are engaged, how families receive due process, the quality of legal representation, safety decision-making, and permanency decision-making.

Other than the JCAMP Feedback Survey, all other instruments will be used for jurisdiction program and practice improvements.

Respondents: Respondents consist of Court Improvement Program administrators and staff, parents, youth, adult caregivers, judges, case workers, parent attorneys, children's attorneys, and agency attorneys.

Annual Burden Estimates
Instrument | Annual number of respondents | Annual number of responses per respondent | Average burden hours per response | Annual burden hours
JCAMP Feedback Survey | 100 | 1 | 0.25 | 25
Parent Experience Survey | 250 | 1 | 0.17 | 42.5
Parent Court Experience Question Bank | 250 | 1 | 0.17 | 42.5
Parent Focus Group Guide | 80 | 1 | 1 | 80
Youth Post-Hearing Survey Short | 250 | 1 | 0.08 | 20
Youth Experience Survey | 250 | 1 | 0.17 | 42.5
Youth Court Experience Question Bank | 250 | 1 | 0.17 | 42.5
Youth Focus Group Guide | 80 | 1 | 1 | 80
Caregiver Survey | 250 | 1 | 0.08 | 20
Stakeholder Survey | 1,500 | 1 | 0.17 | 255
Stakeholder Focus Group Guide | 400 | 1 | 1 | 400

Estimated Total Annual Burden Hours: 1,050.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 5106, Public Law 111-320, the Child Abuse Prevention and Treatment Act Reauthorization Act of 2010, and titles IV-B and IV-E of the Social Security Act.

Mary B. Jones,
ACF/OPRE Certifying Officer.

[FR Doc. 2023-13677 Filed 6-27-23; 8:45 am]

BILLING CODE 4184-29-P